DEPARTMENT OF JUSTICE

Antitrust Division

Notice Pursuant to the National Cooperative Research and Production Act of 1993—EMVCo, LLC

Notice is hereby given that, on September 20, 2004, pursuant to Section 6(a) of the National Cooperative Research and Production Act of 1993, 15 U.S.C. 4301 et seq. (“the Act”), EMVCo, LLC (“EMVCo”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: EMVCo, LLC, Foster City, CA. The nature and scope of EMVCo's standards development activities are: (1) Managing, maintaining, and enhancing the EMVtm Integrated Circuit Card Specifications for Payment Systems; (2) standards maintenance that ensures interoperability and acceptance of payment system integrated circuit cards on a worldwide basis; and (3) a type approval process that defines test requirements and test cases that are used for terminal compliance testing.

Dorothy B. Fountain,
Deputy Director of Operations, Antitrust Division.

[FR Doc. 04-26208 Filed 11-26-04; 8:45 am]

BILLING CODE 4410-11-M